DEPARTMENT OF ENERGY

Federal Energy Regulatory Commission

[Project No. 14243-000]

Lock+Hydro Friends Fund VII; Notice of Preliminary Permit Application Accepted for Filing and Soliciting Comments, Motions To Intervene, and Competing Applications

On August 4, 2011, Lock+Hydro Friends Fund VII, filed an application for a preliminary permit, pursuant to section 4(f) of the Federal Power Act (FPA), proposing to study the feasibility of hydropower at the U.S. Army Corps of Engineers' (Corps) Shamokin Dam. The Shamokin Dam Project (project) would be located on the Susquehanna River, near the town of Shamokin Dam, in Snyder County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) Two prefabricated concrete walls attached to the downstream side of the Corps' dam which would support one frame module; (2) the frame module would be 40 feet wide and weigh 0.65 million pounds and contain 6 generating units with a total combined capacity of 4.5 megawatts (MW); (3) a tailrace approximately 175 feet long, lined with riprap; (4) a new switchyard containing a transformer; and (5) a proposed 1.3-mile-long, 34.5-kilovolt (kV) transmission line connecting to an existing line. The proposed project would have an average annual generation of 25.64 gigawatt-hours, which would be sold to a local utility or the Regional Independent System Operator.

Applicant Contact: Mr. Wayne Krouse, Lock + Hydro Friends Fund VII, 5090 Richmond Avenue #390, Houston, TX 77056; phone (877) 556-6566 x709.

FERC Contact: Tim Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14243-000) in the docket number field to access the document. For assistance, contact FERC Online Support.

Dated: August 17, 2011.
Kimberly D. Bose,
Secretary.

[FR Doc. 2011-21495 Filed 8-22-11; 8:45 am]

BILLING CODE 6717-01-P